DEPARTMENT OF COMMERCE

International Trade Administration

[C-570-968]

Aluminum Extrusions From the People's Republic of China: Correction of Notification of Rescission, in Part; 2016

AGENCY: Enforcement and Compliance, International Trade Administration, Department of Commerce.

FOR FURTHER INFORMATION CONTACT: Davina Friedmann or Tom Bellhouse, AD/CVD Operations, Office VI, Enforcement and Compliance, International Trade Administration, U.S. Department of Commerce, 1401 Constitution Avenue NW, Washington, DC 20230; telephone: (202) 482-0698 or (202) 482-2057, respectively.

SUPPLEMENTARY INFORMATION: On March 15, 2018, the Department of Commerce (Commerce) published the Preliminary Results in the 2016 countervailing duty administrative review of aluminum extrusions from the People's Republic of China.¹ In that notice, Commerce incorrectly listed Guangdong Xin Wei Aluminum Products Co., Ltd. among the companies for which it was rescinding the administrative review.² Commerce intended for Guangdong Xin Wei Aluminum Products Co., Ltd. to only be listed in the “Intent to Rescind Administrative Review, In Part” section of the Preliminary Results, rather than in Appendix II.³

¹ See Aluminum Extrusions from the People's Republic of China: Preliminary Results of Countervailing Duty Administrative Review, Rescission of Review, in Part, and Intent to Rescind, in Part; 2016, 83 FR 11501 (March 15, 2018) (Preliminary Results),

² Id., 83 FR at Appendix II.

³ Id., 83 FR at 11502.

This notice serves as a correction that we have not rescinded this administrative review with respect to Guangdong Xin Wei Aluminum Products Co., Ltd. Rather, we preliminarily intend to rescind the review with respect to Guangdong Xin Wei Aluminum Products Co., Ltd., because there is no evidence on the record to indicate that it had entries of subject merchandise during the period of review. As stated in the Preliminary Results, a final decision regarding whether to rescind the review of this company will be issued with the final results of review.

Dated: April 11, 2018.
Gary Taverman,
Deputy Assistant Secretary for Antidumping and Countervailing Duty Operations, performing the non-exclusive functions and duties of the Assistant Secretary for Enforcement and Compliance.

[FR Doc. 2018-07992 Filed 4-16-18; 8:45 am]

BILLING CODE 3510-DS-P1